DEPARTMENT OF HEALTH AND HUMAN SERVICES

National Institutes of Health

National Institute of Environmental Health Sciences; Notice of Partially Closed Meeting

Pursuant to section 1009 of the Federal Advisory Committee Act, as amended, notice is hereby given of a meeting of the Board of Scientific Counselors, National Institute Environmental Health Sciences.

The meeting will be partially open to the public as indicated below, with attendance limited to space available. Individuals who plan to attend as well as those who need special assistance, such as sign language interpretation or other reasonable accommodations, must notify the Contact Person listed below in advance of the meeting. The open session will be videocast and can be accessed from the NIH Videocasting and Podcasting website (http://videocast.nih.gov/).

The meeting will be closed to the public in accordance with the provisions set forth in sections 552b(c)(4) and 552b(c)(6), Title 5 U.S.C., as amended. The intramural programs and projects as well as the grant applications and/or contract proposals and the discussions could disclose confidential trade secrets or commercial property such as patentable material, and personal information concerning individuals associated with the grant applications and/or contract proposals, the disclosure of which would constitute a clearly unwarranted invasion of personal privacy.

Name of Committee: Board of Scientific Counselors, National Institute of Environmental Health Sciences.

Date: February 8-10, 2026.

Closed: February 8, 2026, 7:00 p.m. to 9:00 p.m.

Agenda: To review and evaluate discussion of BSC Reviews.

Address: National Institute of Environmental Health Sciences, Rodbell Auditorium, 111 TW Alexander Drive, Research Triangle Park, NC 27709.

Meeting Format: Virtual and In-Person.

Open: February 9, 2026, 8:30 a.m. to 9:15 a.m.

Agenda: Meeting Overview.

Address: National Institute of Environmental Health Sciences, Rodbell Auditorium, 111 TW Alexander Drive, Research Triangle Park, NC 27709.

Meeting Format: Virtual and In-Person.

Open: February 9, 2026, 9:30 a.m. to 11:10 a.m.

Agenda: Q&A Sessions.

Address: National Institute of Environmental Health Sciences, Rodbell Auditorium, 111 TW Alexander Drive, Research Triangle Park, NC 27709.

Meeting Format: Virtual and In-Person.

Closed: February 9, 2026, 11:10 a.m. to 12:40 p.m.

Agenda: Session with Investigators and Working Lunch.

Address: National Institute of Environmental Health Sciences, Rodbell Auditorium, 111 TW Alexander Drive, Research Triangle Park, NC 27709.

Meeting Format: Virtual and In-Person.

Open: February 9, 2026, 12:40 p.m. to 2:20 p.m.

Agenda: Q&A Sessions.

Address: National Institute of Environmental Health Sciences, Rodbell Auditorium, 111 TW Alexander Drive, Research Triangle Park, NC 27709.

Meeting Format: Virtual and In-Person.

Open: February 9, 2026, 2:35 p.m. to 3:25 p.m.

Agenda: Q&A Session.

Address: National Institute of Environmental Health Sciences, Rodbell Auditorium, 111 TW Alexander Drive, Research Triangle Park, NC 27709.

Meeting Format: Virtual and In-Person.

Closed: February 9, 2026, 3:25 p.m. to 4:10 p.m.

Agenda: Session with Investigators.

Address: National Institute of Environmental Health Sciences, Rodbell Auditorium, 111 TW Alexander Drive, Research Triangle Park, NC 27709.

Meeting Format: Virtual and In-Person.

Open: February 10, 2026, 8:30 a.m. to 9:40 a.m.

Agenda: Poster Session.

Address: National Institute of Environmental Health Sciences, Rodbell Auditorium, 111 TW Alexander Drive, Research Triangle Park, NC 27709.

Meeting Format: Virtual and In-Person.

Open: February 10, 2026, 9:40 a.m. to 10:30 a.m.

Agenda: Q&A Session.

Address: National Institute of Environmental Health Sciences, Rodbell Auditorium, 111 TW Alexander Drive, Research Triangle Park, NC 27709.

Meeting Format: Virtual and In-Person.

Closed: February 10, 2026, 10:30 a.m. to 10:45 a.m.

Agenda: 1:1 Session with Investigator.

Address: National Institute of Environmental Health Sciences, Rodbell Auditorium, 111 TW Alexander Drive, Research Triangle Park, NC 27709.

Meeting Format: Virtual and In-Person.

Closed: February 10, 2026, 11:00 a.m. to 12:45 p.m.

Agenda: 1:1 Session with Programmatic Staff Scientists and Working Lunch.

Address: National Institute of Environmental Health Sciences, Rodbell Auditorium, 111 TW Alexander Drive, Research Triangle Park, NC 27709.

Meeting Format: Virtual and In-Person.

Closed: February 10, 2026, 12:45 p.m. to 1:45 p.m.

Agenda: Closed Session with Fellows and Staff Scientists.

Address: National Institute of Environmental Health Sciences, Rodbell Auditorium, 111 TW Alexander Drive, Research Triangle Park, NC 27709.

Meeting Format: Virtual and In-Person.

Closed: February 10, 2026, 2:00 p.m. to 4:30 p.m.

Agenda: Closed BSC Discussion and Debriefing to NIEHS/DIR Leadership.

Address: National Institute of Environmental Health Sciences, Rodbell Auditorium, 111 TW Alexander Drive, Research Triangle Park, NC 27709.

Meeting Format: Virtual and In-Person.

Contact Person: Darryl C. Zeldin, MD, Scientific Director, National Institute of Environmental Health Sciences, NIH, DHHS, 111 T.W. Alexander Drive, Bldg. 101, Room A214, Research Triangle Park, NC 27709, (984) 287-3641, zeldin@niehs.nih.gov.

Registration is not required to attend the open portion of this meeting.

Any interested person may file written comments with the committee by forwarding the statement to the Contact Persons listed on this notice. The statement should include the name, address, telephone number and when applicable, the business or professional affiliation of the interested person.

Any member of the public interested in presenting oral comments to the committee may notify the Contact Person listed on this notice at least 10 days in advance of the meeting. Interested individuals and representatives of an organization may submit a letter of intent, a brief description of the organization represented and a short description of the oral presentation. Only one representative of an organization may be allowed to present oral comments and presentations may be limited to five minutes. Both printed and electronic copies are requested for the record. In addition, any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: December 2, 2025.
Denise Santeufemio,
Supervisory Program Analyst, Office of Federal Advisory Committee Policy.

[FR Doc. 2025-22030 Filed 12-4-25; 8:45 am]

BILLING CODE 4140-01-P